DEPARTMENT OF THE INTERIOR

Bureau of Indian Affairs

25 CFR Part 169

[156A2100DD/AAKC001030/A0A501010.999900 253G]

RIN 1076-AF20

Rights-of-Way on Indian Land

AGENCY: Bureau of Indian Affairs, Interior.

ACTION: Final rule; extension of effective date and compliance date.

SUMMARY: The Bureau of Indian Affairs (BIA) is announcing the extension of the effective date of the final rule published November 19, 2015 governing rights-of-way on Indian land, which was scheduled to take effect on December 21, 2015. Tribes and industry have requested additional time to prepare for implementation of the rule. The final rule will now take effect on March 21, 2016. The BIA is also announcing an extension of the compliance date by which documentation of past assignments must be submitted from the originally stated date of April 18, 2016 to July 17, 2016. The final rule comprehensively updates and streamlines the process for obtaining Bureau of Indian Affairs (BIA) grants of rights-of-way on Indian land and BIA land, while supporting tribal self-determination and self-governance.

DATES: The effective date of the final rule published on November 19, 2015 (80 FR 72492) is extended until March 21, 2016. The compliance date for submission of documentation of past assignments is extended until July 17, 2016.

FOR FURTHER INFORMATION CONTACT: Ms. Elizabeth Appel, Director, Office of Regulatory Affairs & Collaborative Action, (202) 273-4680; elizabeth.appel@bia.gov.

SUPPLEMENTARY INFORMATION: On November 19, 2015, BIA published a final rule addressing rights-of-way on Indian land and BIA land. See 80 FR 72492. Since publication, BIA has received comments from tribes and industry requesting an extension of the effective date of the rule in order to provide additional time to prepare for implementation to ensure compliance. This document extends the effective date of the final rule to March 21, 2016, and likewise extends the deadline for providing BIA with documentation of past assignments to July 17, 2016. The substance of the rule remains unchanged.

The BIA has determined that the extension of the effective date and compliance date without prior public notice and comment is in the public interest because it would allow more time for the public to comply with the rule and for BIA to implement the rule. This is a rule of agency procedure or practice that is exempt from notice and comment rulemaking under 5 U.S.C. 553(b)(A).

Correction

In FR Rule Doc. No. 2015-28548, published November 19, 2015, at 80 FR 72492, make the following corrections:

1. On page 72357, in the center and right columns, in revised § 169.7, remove the date “December 21, 2015” wherever it appears and add in its place “March 21, 2016”.

2. On page 72357, in the right column, in paragraph (d) of revised § 169.7, remove the date “April 18, 2016” and add in its place “July 17, 2016”.

Dated: December 14, 2015.
Kevin K. Washburn,
Assistant Secretary—Indian Affairs.

[FR Doc. 2015-31892 Filed 12-18-15; 8:45 am]

BILLING CODE 4337-15-P